DEPARTMENT OF ENERGY

President's Council of Advisors on Science and Technology (PCAST): Correction

AGENCY: Department of Energy.

ACTION: Notice of Open Teleconference: Correction.

SUMMARY: On January 10, 2012, the Department of Energy (DOE) published a notice of open teleconference for the President's Council of Advisors on Science and Technology (PCAST) to be held on January 24, 2013. This document makes several corrections to that notice.

FOR FURTHER INFORMATION CONTACT: Dr. Amber Hartman Scholz, PCAST Acting Executive Director, by email at: ascholz@ostp.eop.gov, or by telephone: (202) 456-4444.

Corrections

In the Federal Register of January 10, 2013, in FR Doc. 2013-00329, on pages 2259-2260, please make the following corrections:

Under DATES, page 2259, second column, first paragraph, eighth line, the date has changed. The new date is Wednesday, January 23, 2013.

Under SUPPLEMENTARY INFORMATION, Proposed Schedule and Agenda heading, page 2259, third column, first paragraph, fifth line, please change date to January 24, 2013.

Under the Public Comments heading, third column, second paragraph, second line, please change date to January 24, 2013.

Under the Oral Comments heading, page 2259, third column, sixth line, please change date to January 23, 2013.

Under the Written Comments heading, page 2260, first column, first paragraph, fifth line, please change date to January 23, 2013.

Issued in Washington, DC on January 10, 2013.
LaTanya R. Butler,
Deputy Committee Management Officer.

[FR Doc. 2013-00811 Filed 1-15-13; 8:45 am]

BILLING CODE 6450-01-P